COMMODITY FUTURES TRADING COMMISSION

Notice of Statement of Commission Policy Regarding Temporary Relief From Certain Provisions of the Commission's Regulations

AGENCY: Commodity Futures Trading Commission.

ACTION: Statement of policy.

SUMMARY: In light of disruptions to the financial markets caused by the terrorist attacks of September 11, 2001, the Commission, as a matter of regulatory policy, has determined not to require compliance with certain Commission regulations to the extent set forth below.

EFFECTIVE DATE: September 11, 2001.

FOR FURTHER INFORMATION CONTACT: Tom Smith, Special Counsel (202-418-5495, tsmith@cftc.gov), or Robert Wasserman, Associate Director (202-418-5092, rwasserman@cftc.gov), Division of Trading and Markets, Commodity Futures Trading Commission, Three Lafayette Centre, 1155 21st Street, NW., Washington, DC 20581.

SUPPLEMENTARY INFORMATION: In light of disruptions to the financial markets caused by the terrorist attacks of September 11, 2001, the Commission, as a matter of regulatory policy, has determined not to require compliance with certain Commission regulations to the extent set forth below. The Commission recognizes that there may be registrants whose individual circumstances warrant relief beyond that provided by this Statement of Policy. Such registrants are encouraged to contact the National Futures Association, their Designated Self-Regulatory Organization, or Commission staff, and advise them of the particulars of their situation and of the relief needed.

(1) Futures Commission Merchants (“FCMs”) and Introducing Brokers (“IBs”) need not count September 11, 12, 13, and 14 as business days for the purpose of calculating the filing deadlines under Commission Rule 1.10 for forms 1FR-FCM AND 1FR-IB.

(2) FCMs need not count September 11, 12, 13, and 14 as business days for purposes of the calculations under Commission Rule 1.17.

(3) Any registrant that has had its physical operations disrupted as a result of the attacks of September 11, 2001, and therefore is unable to comply with the following requirements of 1.31, 1.35, 4.23, and/or 4.33 relating to books or records created on or before September 11, 2001, shall not be required:

a. To keep such books or records readily accessible, as required by Commission Rule 1.31(a), during the period September 11, 2001 through October 11, 2001;

b. To have available at all times, or to be ready at all times to provide, during the period September 11, 2001 through October 11, 2001 the facilities and/or records under Rules 1.31(b)(2)(i), 1.31(b)(2)(ii), and 1.31(b)(3); or

c. To provide such books or records promptly, as required by Commission Rule 1.35, during the period September 11, 2001 through October 11, 2001.

(4) FCMs and IBs that have had their physical operations disrupted as a result of the attacks of September 11, 2001, and therefore are unable to comply with the timestamping requirements of Rule 1.35(a-1)(1) due to their inability to access timestamping devices shall not be required to comply with those requirements between September 11, 2001 and September 21, 2001. In that event, any such FCM or IB shall use reasonable alternative methods to document the time sequence of orders.

(5) Any FCM that has had its physical operations disrupted as a result of the attacks of September 11, 2001, and therefore was unable to comply with the requirements of Commission Rules 1.32 or 30.7(f) on September 11, 12, 13, and/or 14 shall not be required to comply with those requirements.

(6) Any FCM that has had its physical operations disrupted as a result of the attacks of September 11, 2001, and therefore is unable to complete the computations required under Commission Rules 1.32 and 30.7(f) by the noon deadline set forth in the applicable rule, shall be permitted to extend that deadline to the close of business of the applicable day during the period from September 17, 2001 through October 11, 2001.

(7) Any FCM that has had its physical operations disrupted as a result of the attacks of September 11, 2001, and therefore was unable to comply with the requirements of Commission Rules 1.33(b) or 1.46(a) need not count September 11, 12, 13, and 14 as business or calendar days for the purpose of such rules.

(8) Any FCM or IB that has had its physical operations disrupted as a result of the attacks of September 11, 2001, and therefore is unable to comply with the requirement of Commission Rule 1.65(g) need not count September 11, 12, 13, and 14 as business or calendar days for the purpose of such rule.

(9) Any Commodity Pool Operator that has had its physical operations disrupted as a result of the attacks of September 11, 2001, and therefore was unable to comply with the requirements of Commission Rule 4.22(a) or the introductory paragraph of Rule 4.23 need not count September 11, 12, 13, and 14 as calendar or business days for the purposes of the filing or inspection provisions of such rules.

(10) Registrants that file paper copies of reports with the New York Regional office should submit the reports to the Chicago Regional Office at the following address: Commodity Futures Trading Commission, 300 South Riverside Plaza, Suite 1600 North, Chicago, IL 60606.

The Commission encourages Self-Regulatory Organizations to grant analogous relief from provisions of their own rules as necessary and appropriate.

Issued in Washington, D.C. on September 19, 2001 by the Commission.
Jean A. Webb,
Secretary of the Commission.

[FR Doc. 01-24165 Filed 9-26-01; 8:45 am]

BILLING CODE 6351-01-M